DEPARTMENT OF COMMERCE

International Trade Administration

A-570-827

Certain Cased Pencils from the People's Republic of China: Preliminary Rescission of Antidumping Duty New Shipper Review

AGENCY: Import Administration, International Trade Administration, Department of Commerce.

ACTION: Notice of Preliminary Rescission of Antidumping Duty New Shipper Review of Certain Cased Pencils from the People's Republic of China.

SUMMARY:

The Department of Commerce (the Department) is preliminarily rescinding the antidumping duty new shipper review requested by Wuxi Andi Civilization PE Gift Give Away Co., Ltd. (Wuxi or respondent), the exporter, and Safety Touch & Javithon Inc., the importer, of the antidumping duty order on certain cased pencils from the People's Republic of China (PRC). The period of the requested review is December 1, 2000 through May 31, 2001.

The Department invites interested parties to comment on the preliminary results.

DATES: January 28, 2002.

FOR FURTHER INFORMATION CONTACT: John Conniff or Paul Stoltz, AD/CVD Enforcement, Office 4, Group II, Import Administration, International Trade Administration, U.S. Department of Commerce, 14th Street and Constitution Avenue, N.W., Washington, D.C. 20230; telephone (202) 482-1009 and (202) 482-4474, respectively.

SUPPLEMENTARY INFORMATION:

The Applicable Statute and Regulations

Unless otherwise indicated, all citations to the Tariff Act of 1930, as amended, (the Act) are references to the provisions effective January 1, 1995, the effective date of the amendments made to the Act by the Uruguay Round Agreements Act. In addition, unless otherwise indicated, all citations to the Department's regulations are to the regulations at 19 CFR Part 351 (2000).

Background

On December 28, 1994, the Department published in the Federal Register (59 FR 66909) the antidumping duty order on certain cased pencils from the People's Republic of China. On May 31, 2001, in accordance with section 751(a)(2)(B) of the Act and 19 CFR 351.214, the Department received a timely request from Wuxi to conduct a new shipper review of that order.

Section 351.214(b) of the Department's regulations requires that the exporter or producer requesting a new shipper review include the following in its request: (i) a statement from such exporter or producer that it did not export subject merchandise to the United States during the period of investigation (POI); (ii) certification that, since the investigation was initiated, such exporter or producer has never been affiliated with any exporter or producer who exported the subject merchandise to the United States during the POI; (iii) in an antidumping proceeding involving imports from a non-market economy (NME) country, a certification that the export activities of such exporter or producer are not controlled by the central government; and (iv) documentation establishing: (a) the date on which the subject merchandise was first entered, or withdrawn from warehouse, for consumption, or, if this date cannot be established, the date on which the exporter or producer first shipped the subject merchandise for export to the United States; (b) the volume of that shipment and subsequent shipments; and (c) the date of the first sale to an unaffiliated customer in the United States. Wuxi's May 31, 2001 request for review included certifications from both Wuxi and Shanghai Anli Stationary Sporting Goods Co. Ltd. (Anfong), the company that supplied Wuxi with semi-finished pencils. The certifications stated that neither company exported the subject merchandise to the United States during the POI nor is affiliated with any company which did so. In addition, pursuant to 19 CFR 351.214(b)(2)(iii)(B), Wuxi's request certified that the export activities of both companies are not controlled by the central government of the PRC. Wuxi's new shipper review request also included information regarding the date on which the company's subject merchandise was first entered for consumption in the United States, the volume of the shipment, and the date of the first sale to an unaffiliated customer in the United States.

On July 24, 2001, the Department initiated a new shipper review of Wuxi covering the period December 1, 2000, through May 31, 2001. See Certain Cased Pencil From the People's Republic of China: Initiation of Antidumping New Shipper Review, 66 FR 39732 (August 1, 2001) (Initiation Notice). On August 7, 2001, the Department issued its antidumping questionnaire to Wuxi. After granting Wuxi three extensions of time to respond to section A of the antidumping questionnaire, the Department received Wuxi's timely section A response on September 17, 2001. The Department also granted Wuxi an extension of time to respond to sections C and D of the antidumping questionnaire until September 28, 2001. However, Wuxi failed to respond to these sections of the Department's questionnaire.

Scope of the Review

Imports covered by this review are shipments of certain cased pencils of any shape or dimension which are writing and/or drawing instruments that feature cores of graphite or other materials, encased in wood and/or man-made materials, whether or not decorated and whether or not tipped (e.g., with erasers, etc.) in any fashion, and either sharpened or unsharpened. The pencils subject to this investigation are classified under subheading 9609.10.00 of the Harmonized Tariff Schedules of the United States (HTSUS). Specifically excluded from the scope of this order are mechanical pencils, cosmetic pencils, pens, non-cased crayons (wax), pastels, charcoals, and chalks. Although the HTSUS subheading is provided for convenience and customs purposes our written description of the scope of the order is dispositive.

Rescission of the Review

In our Initiation Notice we stated the following:

If the respondent provides sufficient evidence that it is not subject to either de jure or de facto government control with respect to its exports of certain cased pencils, this review will proceed. If, on the other hand, Wuxi does not meet its burden to demonstrate its eligibility for a separate rate, then Wuxi will be deemed to be affiliated with other companies that exported during the POI. This review will then be terminated due to failure of the exporter or producer to meet the requirements of section 751(a)(2)(B)(i)(II) of the Act and 19 CFR 351.214(b)(2)(iii)(B).

See Initiation Notice (66 FR 39732).

In its September 17, 2001 response to section A of the Department's questionnaire, Wuxi stated that it is not under the control of the PRC government. After submitting its section A response, Wuxi failed to submit any other information to the Department including its response to sections C and D of the antidumping questionnaire. Because Wuxi terminated its participation in this review, we have preliminarily determined that Wuxi is not entitled to a separate rate. Thus, we are preliminarily rescinding this new shipper review.

Any interested party may request a hearing within 30 days of publication of this notice in accordance with section 351.310(c) of the Department's regulations. Any hearing would normally be held 37 days after the publication of this notice, or the first workday thereafter, at the U.S. Department of Commerce, 14th Street and Constitution Avenue NW., Washington, DC 20230. Individuals who wish to request a hearing must submit a written request within 30 days of the publication of this notice in the Federal Register to the Assistant Secretary for Import Administration, U.S. Department of Commerce, Room 1870, 14th Street and Constitution Avenue, NW., Washington, DC 20230. Requests for a public hearing should contain: (1) the party's name, address, and telephone number; (2) the number of participants; and, (3) to the extent practicable, an identification of the arguments to be raised at the hearing. Unless otherwise notified by the Department, interested parties may submit case briefs within 21 days of the date of publication of this notice in accordance with 351.309(c)(ii) of the Department's regulations. As part of the case brief, parties are encouraged to provide a summary of the arguments not to exceed five pages and a table of statutes, regulations, and cases cited. Rebuttal briefs, which must be limited to issues raised in the case briefs, must be filed within five days after the case brief is filed. Further, we would appreciate it if parties submitting written comments would provide the Department with an additional copy of the public version of any such comments on diskette. If a hearing is held, an interested party may make an affirmative presentation only on arguments included in that party's case brief and may make a rebuttal presentation only on arguments included in that party's rebuttal brief. Parties should confirm by telephone the time, date, and place of the hearing 48 hours before the scheduled time.

The Department will issue the final results of this new shipper review, which will include the results of its analysis of issues raised in the briefs, within 90 days from the date of this preliminary result, unless the time limit is extended.

This new shipper review and this notice are published in accordance with sections 751(a)(2)(B) and 777(i)(1) of the Act.

January 18, 2002
Faryar Shirzad,
Assistant Secretary for Import Administration.

[FR Doc. 02-2033 Filed 1-25-02; 8:45 am]

BILLING CODE 3510-DS-S